DEPARTMENT OF TRANSPORTATION

Office of the Secretary

Fitness Determination of Valley Air Express, Inc.

AGENCY: Department of Transportation.

ACTION: Notice of Order to Show Cause (Order 2003-5-16), Docket OST-02-13159.

SUMMARY: The Department of Transportation is directing all interested persons to show cause why it should not issue an order finding Valley Air Express, Inc., fit, willing, and able to provide scheduled passenger operations as a commuter air carrier under 49 U.S.C. 41738.

Responses: Objections and answers to objections should be filed in Docket OST-02-13159 and addressed to the Department of Transportation Dockets, SVC-124.1, Room PL-401, 400 Seventh Street, SW., Washington, DC 20590, and should be served on all persons listed in Attachment A to the order. Persons wishing to file objections should do so no later than May 28, 2003.

FOR FURTHER INFORMATION CONTACT: Mr. James Lawyer, Air Carrier Fitness Division (X-56, Room 6401), U.S. Department of Transportation, 400 Seventh Street, SW., Washington, DC 20590, (202) 366-1064.

Dated: May 13, 2003.
Read C. Van De Water,
Assistant Secretary for Aviation and International Affairs.

[FR Doc. 03-12548 Filed 5-19-03; 8:45 am]

BILLING CODE 4910-62-P